DEPARTMENT OF TRANSPORTATION

Maritime Administration

[Docket No. MARAD-2024-0142]

Request for Comments on the Renewal of a Previously Approved Collection: Voluntary Intermodal Sealift Agreement

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0532 (Voluntary Intermodal Sealift Agreement (VISA)) is used by MARAD and United States Transportation Command (USTRANSCOM) to assess an applicant's eligibility for participation in VISA. The form is being updated to reflect changes in statute and to better align with current program operations. We are required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: David Hatcher, (202) 366-0688, Director, Office of Sealift Support, Maritime Administration, U.S. Department of Transportation, 1200 New Jersey Avenue SE, Room W-25-310, Mail Stop 1, Washington, DC 20590, David.Hatcher1@dot.gov.

SUPPLEMENTARY INFORMATION:

Title: Voluntary Intermodal Sealift Agreement (VISA).

OMB Control Number: 2133-0532.

Type of Request: Revision of a Currently Approved Collection.

Abstract: The collection supports the operation of VISA, a voluntary agreement and plan of action established under section 708 of the Defense Production Act, 1950, as amended (50 U.S.C. 4558), under which participants agree to provide commercial sealift capacity and associated intermodal shipping services and systems necessary to meet national defense requirements in times of armed conflict or national emergency. To meet national defense requirements, the Government must assure the continued availability of commercial sealift resources for logistics planning in contingencies. The information collection is needed by MARAD and the Department of Defense, including representatives from USTRANSCOM, to evaluate and assess the applicants' eligibility for participation in the VISA program.

Respondents: Owners and operators of qualified U.S.-Flag dry cargo vessels.

Affected Public: Business or other for-profit entities.

Estimated Number of Respondents: 40.

Estimated Number of Responses: 1.

Estimated Hours per Response: 5.

Annual Estimated Total Annual Burden Hours: 200.

Frequency of Response: Once annually.

A 60-day Federal Register Notice soliciting comments on this information collection was published on August 9, 2024 (89 FR 65486).

(Authority: The Paperwork Reduction Act of 1995; 44 U.S.C. Chapter 35, as amended; and 49 CFR 1.49.)

By Order of the Maritime Administrator.
T. Mitchell Hudson, Jr.,
Secretary, Maritime Administration.

[FR Doc. 2024-26003 Filed 11-7-24; 8:45 am]

BILLING CODE 4910-81-P